DEPARTMENT OF HEALTH AND HUMAN SERVICES

Centers for Disease Control and Prevention

[Program Announcement 00085]

Cooperative Agreement With the Association of Environmental Health Academic Programs; Notice of Availability of Funds

A. Purpose

The Centers for Disease Control and Prevention, (CDC) announces the availability of fiscal year (FY) 2000 funds for a cooperative agreement program for the purpose of determining need and developing programs and curricula to strengthen State, local and tribal environmental health infrastructure; identifying and evaluating the effectiveness of core competencies to practice environmental health; preparing future professionals and educating current professionals to those competencies; and increasing the number of programs accredited by the National Environmental Health Science and Protection Accreditation Council (NEHSPAC).

CDC is committed to achieving the health promotion and disease prevention objectives of “Healthy People 2010,” a national activity to reduce morbidity and mortality and improve the quality of life. This announcement is related to the focus areas of Environmental Health and Public Health Infrastructure. For the conference copy of “Healthy People 2010,” visit the internet site: http://www.health.gov/healthypeople

B. Eligible Applicant

Assistance will be provided only to the Association of Environmental Health Academic Programs (AEHAP). No other applications are solicited.

AEHAP is the only organization for conducting this program because:

1. AEHAP is the only association which represents all the undergraduate and graduate institutions with academic programs of environmental health accredited by the NEHSPAC as well as those seeking accreditation.

2. AEHAP has the critical framework in place for developing the technical competence, managerial capacity, and leadership potential of accredited undergraduate and graduate programs in environmental health.

3. AEHAP is uniquely positioned to communicate and consult with all of the accredited undergraduate and graduate programs of environmental health because the accredited programs are a part of the existing membership.

4. AEHAP has a documented ability to build effective partnerships and collaborative relationships with federal health agencies and appropriate national organizations.

5. AEHAP provides the structure and experience for instituting programs that strengthen the environmental health system at the State and local levels.

6. AEHAP, through its affiliation with non-accredited universities teaching environmental sciences and environmental health, can encourage growth of qualified and accredited academic institutions to meet the demand for entry level environmental health professionals.

C. Availability of Funds

Approximately $100,000 is available in FY 2000 to fund this Cooperative Agreement. It is expected that the award will begin on or about September 1, 2000, and will be made for a 12-month budget period within a project period of up to 5 years. Funding estimates may change.

Continuation awards within an approved project period will be made on the basis of satisfactory progress as evidenced by required reports and the availability of funds.

D. Program Requirements

In conducting activities to achieve the purpose of this Cooperative Agreement, the recipient shall be responsible for the activities under 1. (Recipient Activities), and CDC shall be responsible for conducting activities under 2. (CDC Activities):

1. Recipient Activities

a. Develop and implement a plan for addressing the national shortage of properly prepared and trained environmental health professionals.

b. Identify effective public health principles and incorporate into curricula of students entering the field of environmental health.

c. Identify capacity gaps and build the capacity of local environmental health programs to incorporate sound public health practice into their programs.

d. Develop and implement a plan to increase the number of accredited undergraduate and graduate programs in environmental health in areas of the country with a need for AEHAP prepared environmental health professionals by providing assistance to programs working to become accredited by the Environmental Health Science and Protection Accreditation Council.

e. Convene professional groups with diverse backgrounds to obtain their reviews and comments on plans and practices to prepare future and current environmental health professionals.

f. Develop liaisons with key federal, State, local and tribal agencies and professional groups in areas of environmental health.

g. Evaluate the effectiveness of the project's activities.

2. CDC Activities

a. Provide consultation, assistance, and guidance in planning and implementing program activities.

b. Assist in developing and implementing short- and long-term plans for improving environmental health practices at local communities.

c. Provide science-based collaboration and technical assistance in developing and implementing evaluation strategies for the program.

d. Facilitate collaboration between recipient and public and private sector agencies involved in environmental health at the national, regional, State and community levels.

e. Facilitate the exchange of program information among public and private agencies at all levels.

E. Application Content

Use the information in the Program Requirements, Other Requirements and Evaluation Criteria sections to develop the application content. Your application will be evaluated on the criteria listed, so it is important to follow them in laying out your program plan.

Provide a detailed budget and justification. A brief projection should be submitted that clearly separates direct and indirect costs.

F. Submission and Deadline

Submit the original and two copies of PHS 5161-1 (OMB Number 0937-0189). Forms are available at the following Internet address: www.cdc.gov/...Forms, or in the application kit.

On or before June 26, 2000, submit the application to the Grants Management Specialist identified in the “Where to Obtain Additional Information” section of this announcement.

Deadline: Application shall be considered as meeting the deadline if it is either:

(a) Received on or before the deadline date; or

(b) Sent on or before the deadline date and received in time for submission to the independent review group. (Applicant must request a legibly dated U.S. Postal Service postmark or obtain a legibly dated receipt from a commercial carrier or U.S. Postal Service. Private metered postmarks shall not be acceptable as proof of timely mailing.)

Late Application: Application which does not meet the criteria in (a) or (b) above is considered a late application, will not be considered, and will be returned to the applicant.

G. Evaluation Criteria

The application will be evaluated against the following criteria by an independent review group appointed by CDC.

1. Understanding of the problem (20 percent)

The applicant's ability to demonstrate an understanding of the nature of the problem to be addressed. This specifically includes description of the public health importance of the planned activities to be undertaken, and realistic presentation of proposed objectives.

2. Technical approach (25 percent)

The extent to which the applicant's proposal addresses: (1) An overall design strategy, including measurable time lines; and (2) management analysis of the data collected.

3. Ability to carry out the project (25 percent) Degree to which the applicant provides evidence of ability to carry out the proposed project and the extent to which the applicant documents demonstrated capability to achieve the purpose of this project.

4. Personnel (20 percent)

The extent to which professional personnel involved in this project are qualified, including evidence of experience similar to this project.

5. Plans for Administration (10 percent)

Adequacy of plans for administering the project.

6. Budget (not scored)

Itemized budget for conducting the project, along with justification, is provided and is reasonable and appropriate to the described project.

H. Other Requirements

Technical Reporting Requirements

Provide CDC with the original plus two copies of:

1. Semi-annual progress report;

2. Financial status report, no more than 90 days after the end of the budget period;

3. Final financial status report and performance report, no more than 90 days after the end of the project period.

Send all reports to the Grants Management Specialist identified in the “Where to Obtain Additional Information” section of this announcement.

The following additional requirements are applicable to this program. For a complete description of each, see Attachment I in the application package.

AR-7 Executive Order 12372 Review

AR-10 Smoke-Free Workplace Requirements

AR-11 Healthy People 2010

AR-12 Lobbying Restrictions

I. Authority and Catalog of Federal Domestic Assistance Number

This program is authorized under section 301 and 317 of the Public Health Service Act, [42 U.S.C. section 241 and 247b] as amended. The Catalog of Federal Domestic Assistance number is 93.283.

J. Where To Obtain Additional Information

To obtain additional information, contact: Sonia Rowell, Grants Management Specialist Grants Management Branch, Procurement and Grants Office Centers for Disease Control and Prevention (E-13) 2920 Brandywine Road, Room 3000 Atlanta, GA 30341 Telephone (770) 488-2724 Email address svp1@cdc.gov

For program technical assistance, contact: Patrick O. Bohan, National Center for Environmental Health, Centers for Disease Control and Prevention (F-48), 4770 Buford Highway NE, Atlanta, Georgia 30341, (770) 488-7303, E-mail address pfb3@cdc.gov.

The CDC Homepage address on the Internet is http://www.cdc.gov

Dated: May 3, 2000.
Henry S. Cassell III,
Acting Director, Procurement and Grants Office, Centers for Disease Control and Prevention (CDC).

[FR Doc. 00-11514 Filed 5-8-00; 8:45 am]

BILLING CODE 4163-18-P